NUCLEAR REGULATORY COMMISSION

[Docket Nos. 50-334 and 50-412]

Pennsylvania Power Company, Ohio Edison Company, The Cleveland Electric Illuminating Company, The Toledo Edison Company, Firstenergy Nuclear Operating Company, Beaver Valley Power Station, Unit Nos. 1 and 2; Notice of Withdrawal of Application for Amendments to Facility Operating License

The U.S. Nuclear Regulatory Commission (the Commission) has granted the request of FirstEnergy Nuclear Operating Company (the licensee) to withdraw its January 18, 1999, application for proposed amendment to Facility Operating License Nos. DPR-66 and NPF-73, for the Beaver Valley Power Station, Unit Nos. 1 and 2 (BVPS-1 and 2), located in Beaver County, Pennsylvania.

The proposed amendments would have: (1) Deleted license condition 2.C.(3) from the BVPS-1 operating license and deleted some references to two-loop operation from BVPS-1 Technical Specifications (TSs); (2) revised BVPS-1 and BVPS-2 TSs 2.2.1 and 3.3.2.1, associated Tables 2.2-1 and 3.3-4, and associated Bases, to use consistent format and wording between units; (3) revised BVPS-1 and BVPS-2 TSs 2.2.1 and 3.3.2.1, associated Tables 2.2-1 and 3.3-4, and associated Bases, to include revised nominal trip setpoints and allowable values; (4) deleted or revised TSs to reflect the current configuration of Unit 1 plant hardware; and (5) made miscellaneous editorial changes to BVPS-1 and BVPS-2 TSs and associated Bases to define terms, revise formatting, modify titles, and add license numbers to pages.

The Commission had previously issued a Notice of Consideration of Issuance of Amendment published in the Federal Register on February 24, 1999, (64 FR 9189). However, by letter dated July 29, 2000, the licensee withdrew the proposed change.

For further details with respect to this action, see the application for amendment dated January 18, 1999, and the licensee's letter dated July 29, 2000, which withdrew the application for license amendment. The above documents are available for public inspection at the Commission's Public Document Room, the Gelman Building, 2120 L Street, NW., Washington, DC, and accessible electronically through the ADAMS Public Electronic Reading Room link at the NRC Web site (http://www.nrc.gov).

Dated at Rockville, Maryland, this 25 day of August 2000.
For the Nuclear Regulatory Commission.
Daniel S. Collins,
Project Manager, Section 1, Project Directorate I, Division of Licensing Project Management, Office of Nuclear Reactor Regulation.

[FR Doc. 00-22500 Filed 8-31-00; 8:45 am]

BILLING CODE 7590-01-P